DEPARTMENT OF HEALTH AND HUMAN SERVICES

Office of the Secretary

[Document Identifier HHS-OS-0990-New-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before June 22, 2015.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the Information Collection Request Title and document identifier HHS-OS-0990-New-30D for reference.

Information Collection Request Title: Midwest HIV Prevention and Pregnancy Planning Initiative (MHPPPI)

Abstract: HHS Office of the Assistant Secretary for Health (OASH)/Office of Women's Health (OWH) is seeking an approval on a new information collection request by the Office of Management and Budget (OMB), the program office initiatives on the evaluation of the MHPPPI will be conducted by the AIDS Foundation of Chicago's (AFC) internal Research, Evaluation and Data Services (REDS) department, which specializes in documenting, evaluating and analyzing the process, impact and outcomes of health programs. The evaluation framework for MHPPPI includes process monitoring, impact evaluation, outcome evaluation and dissemination. The impact evaluation will be informed by an initial climate survey of a sample of medical providers within the Midwest to develop a conservative baseline estimate of the counterfactual model. The counterfactual model will postulate what would have happened without the intervention. The impact evaluation will also document and analyze the degree to which services are integrated in medical settings based on change agent surveys administered through participating trainees. The outcome evaluation will assess changes that occurred in each domain as a result of the intervention, including knowledge, attitudes and behaviors related to the specific training content. The overall evaluation goal is to assess whether or not MHPPPI:

(1) Increased the knowledge of providers,

(2) Facilitated the integration of pregnancy planning into the care of HIV-positive women/women with HIV-positive partners, and

(3) Increased access to innovative HIV prevention options in communities with high HIV prevalence.

Likely Respondents:

○ HIV Primary Care Providers

▪ Anyone who provides primary HIV care to persons of reproductive age (15-49)

○ Reproductive Health Care Providers

▪ Anyone who provides reproductive health care to HIV+ persons or HIV- persons with HIV+ partners.

○ HIV-positive and HIV-negative women receiving reproductive health care

Total Estimated Annualized Burden—Hours
Form name | Number of respondents | Number of responses per respondent | Average burden per response (in hours) | Total burden hours
Provider Survey | 300 | 1 | 15/60 | 75
Patient Qualitative Interview | 20 | 1 | 1 | 20
Provider Qualitative Interview | 20 | 1 | 1 | 20
Total |  |  |  | 115

Terry Clark,
Asst Information Collection Clearance Officer.

[FR Doc. 2015-12274 Filed 5-20-15; 8:45 am]

BILLING CODE 4150-28-P